DEPARTMENT OF ENERGY

Federal Energy Regulatory Commission

Combined Notice of Filings #1

Take notice that the Commission received the following exempt wholesale generator filings:

Docket Numbers: EG25-223-000.

Applicants: Black Springs BESS LLC.

Description: Black Springs BESS LLC submits Notice of Self-Certification of Exempt Wholesale Generator Status.

Filed Date: 3/12/25.

Accession Number: 20250312-5229.

Comment Date: 5 p.m. ET 4/2/25.

Docket Numbers: EG25-224-000.

Applicants: Lucky Bluff BESS LLC.

Description: Lucky Bluff BESS LLC submits Notice of Self-Certification of Exempt Wholesale Generator Status.

Filed Date: 3/12/25.

Accession Number: 20250312-5230.

Comment Date: 5 p.m. ET 4/2/25.

Docket Numbers: EG25-225-000.

Applicants: GAIA Solar, LLC.

Description: GAIA Solar, LLC submits Notice of Self-Certification of Exempt Wholesale Generator Status.

Filed Date: 3/13/25.

Accession Number: 20250313-5048.

Comment Date: 5 p.m. ET 4/3/25.

Docket Numbers: EG25-226-000.

Applicants: Dodson Creek Solar, LLC.

Description: Dodson Creek Solar, LLC submits Notice of Self-Certification of Exempt Wholesale Generator Status.

Filed Date: 3/13/25.

Accession Number: 20250313-5050.

Comment Date: 5 p.m. ET 4/3/25.

Docket Numbers: EG25-227-000.

Applicants: NRG Energy, Inc.

Description: NRG Cedar Bayou 5 LLC submits Notice of Self-Certification of Exempt Wholesale Generator Status.

Filed Date: 3/13/25.

Accession Number: 20250313-5065.

Comment Date: 5 p.m. ET 4/3/25.

Take notice that the Commission received the following Complaints and Compliance filings in EL Dockets:

Docket Numbers: EL25-67-000.

Applicants: Kentucky Public Service Commission, Attorney General of the Commonwealth of Kentucky v. American Electric Power Service Corporation, et al.

Description: Complaint of Kentucky Public Service Commission, Attorney General of the Commonwealth of Kentucky v. American Electric Power Service Corporation, et al.

Filed Date: 3/12/25.

Accession Number: 20250312-5238.

Comment Date: 5 p.m. ET 4/1/25.

Take notice that the Commission received the following electric rate filings:

Docket Numbers: ER23-1784-003.

Applicants: PJM Interconnection, L.L.C.

Description: Compliance filing: Filing to Set Effective Date of Tariff, Section 4.2—Order No. 676-J Compliance to be effective 3/10/2025.

Filed Date: 3/13/25.

Accession Number: 20250313-5062.

Comment Date: 5 p.m. ET 4/3/25.

Docket Numbers: ER25-1472-000.

Applicants: Black Hills Colorado Electric, LLC.

Description: Petition for Limited Waiver and Extension of Time of Black Hills Colorado Electric, LLC.

Filed Date: 2/28/25.

Accession Number: 20250228-5479.

Comment Date: 5 p.m. ET 3/28/25.

Docket Numbers: ER25-1480-000.

Applicants: San Diego Gas & Electric Company.

Description: Petition for Limited Waiver of San Diego Gas & Electric Company.

Filed Date: 2/28/25.

Accession Number: 20250228-5485.

Comment Date: 5 p.m. ET 3/28/25.

Docket Numbers: ER25-1573-000.

Applicants: PJM Interconnection, L.L.C.

Description: 205(d) Rate Filing: Original GIA, SA No. 7583; AE2-190/AG1-031 & Cancellation of ISA, SA No. 6781 to be effective 2/10/2025.

Filed Date: 3/12/25.

Accession Number: 20250312-5195.

Comment Date: 5 p.m. ET 4/2/25.

Docket Numbers: ER25-1574-000.

Applicants: PJM Interconnection, L.L.C.

Description: 205(d) Rate Filing: Original GIA, SA No. 7586; Project Identifier No. AF1-114/AF2-091 to be effective 2/10/2025.

Filed Date: 3/12/25.

Accession Number: 20250312-5209.

Comment Date: 5 p.m. ET 4/2/25.

Docket Numbers: ER25-1575-000.

Applicants: PJM Interconnection, L.L.C.

Description: 205(d) Rate Filing: Original GIA, Service Agreement No. 7574; AF2-375 to be effective 2/5/2025.

Filed Date: 3/12/25.

Accession Number: 20250312-5220.

Comment Date: 5 p.m. ET 4/2/25.

Docket Numbers: ER25-1576-000.

Applicants: PJM Interconnection, L.L.C.

Description: 205(d) Rate Filing: Original CSA, Original Service Agreement No. 7575 to be effective 2/5/2025.

Filed Date: 3/12/25.

Accession Number: 20250312-5223.

Comment Date: 5 p.m. ET 4/2/25.

Docket Numbers: ER25-1583-000.

Applicants: Portland General Electric Company.

Description: 205(d) Rate Filing: PGE Concurrence Filing Colstrip Jane Wind I LGIA to be effective 2/26/2025.

Filed Date: 3/13/25.

Accession Number: 20250313-5059.

Comment Date: 5 p.m. ET 4/3/25.

Docket Numbers: ER25-1584-000.

Applicants: Portland General Electric Company.

Description: 205(d) Rate Filing: PGE Concurrence Filing Colstrip Jane Wind II LGIA to be effective 2/26/2025.

Filed Date: 3/13/25.

Accession Number: 20250313-5060.

Comment Date: 5 p.m. ET 4/3/25.

Docket Numbers: ER25-1585-000.

Applicants: Midcontinent Independent System Operator, Inc.

Description: 205(d) Rate Filing: 2025-03-13_SA 4335 NSP—Harmony Solar ND 1st Rev GIA (J1588) to be effective 3/7/2025.

Filed Date: 3/13/25.

Accession Number: 20250313-5068.

Comment Date: 5 p.m. ET 4/3/25.

Docket Numbers: ER25-1586-000.

Applicants: Northern States Power Company, a Minnesota corporation.

Description: 205(d) Rate Filing: 2025-03-13 GRE 2025 JPZ-304-0.4.0 to be effective 1/1/2025.

Filed Date: 3/13/25.

Accession Number: 20250313-5107.

Comment Date: 5 p.m. ET 4/3/25.

Docket Numbers: ER25-1587-000.

Applicants: Southwest Power Pool, Inc.

Description: 205(d) Rate Filing: Submission of Tariff Revisions to Attachment AA to Adjust RAR Timelines (RR 632) to be effective 10/1/2025.

Filed Date: 3/13/25.

Accession Number: 20250313-5108.

Comment Date: 5 p.m. ET 4/3/25.

Docket Numbers: ER25-1588-000.

Applicants: Tri-State Generation and Transmission Association, Inc.

Description: 205(d) Rate Filing: Amendment to Rate Schedule FERC No. 12 to be effective 5/13/2025.

Filed Date: 3/13/25.

Accession Number: 20250313-5114.

Comment Date: 5 p.m. ET 4/3/25.

Docket Numbers: ER25-1591-000.

Applicants: Midcontinent Independent System Operator, Inc.

Description: 205(d) Rate Filing: 2025-03-13_SA 4032 Termination of MidAmerican-Lost Island Wind E&P (J1270) to be effective 3/14/2025.

Filed Date: 3/13/25.

Accession Number: 20250313-5120.

Comment Date: 5 p.m. ET 4/3/25.

Docket Numbers: ER25-1593-000.

Applicants: New York Independent System Operator, Inc.

Description: 205(d) Rate Filing: NYISO 205: NYISO—Ravenswood Fuel Oil Implementation Agreement, SA 2887 to be effective 4/1/2025.

Filed Date: 3/13/25.

Accession Number: 20250313-5159.

Comment Date: 5 p.m. ET 4/3/25.

Docket Numbers: ER25-1595-000.

Applicants: Dodson Creek Solar, LLC.

Description: Initial Rate Filing: Application for Market Based Rate Authority to be effective 3/14/2025.

Filed Date: 3/13/25.

Accession Number: 20250313-5168.

Comment Date: 5 p.m. ET 4/3/25.

Docket Numbers: ER25-1596-000.

Applicants: Merrill Lynch Commodities, Inc.

Description: 205(d) Rate Filing: Normal filing 2025 to be effective 12/31/2024.

Filed Date: 3/13/25.

Accession Number: 20250313-5172.

Comment Date: 5 p.m. ET 4/3/25.

Docket Numbers: ER25-1597-000.

Applicants: Bartonsville Energy Facility, LLC.

Description: Initial rate filing: Filing of Transfer of Operational Control Rate Schedule to be effective 5/13/2025.

Filed Date: 3/13/25.

Accession Number: 20250313-5173.

Comment Date: 5 p.m. ET 4/3/25.

Docket Numbers: ER25-1598-000.

Applicants: Lucky Corridor, LLC.

Description: Compliance filing: Lucky Corridor Order No. 904 Compliance Filing to be effective 6/11/2025.

Filed Date: 3/13/25.

Accession Number: 20250313-5174.

Comment Date: 5 p.m. ET 4/3/25.

Docket Numbers: ER25-1599-000.

Applicants: Mountain Peak Power, LLC.

Description: Initial Rate Filing: MPP Market-Based Rate Application to be effective 5/12/2025.

Filed Date: 3/13/25.

Accession Number: 20250313-5179.

Comment Date: 5 p.m. ET 4/3/25.

Take notice that the Commission received the following qualifying facility filings:

Docket Numbers: QF25-349-001.

Applicants: PG Solar LLC.

Description: Form 556 of PG Solar LLC.

Filed Date: 3/10/25.

Accession Number: 20250310-5053.

Comment Date: 5 p.m. ET 3/31/25.

Take notice that the Commission received the following electric reliability filings:

Docket Numbers: RD25-6-000.

Applicants: North American Electric Reliability Corporation, Western Electricity Coordinating Council.

Description: North American Electric Reliability Corporation et. al. submit Joint Petition for Approval of Proposed Regional Reliability Standard BAL-004-WECC-4.

Filed Date: 3/12/25.

Accession Number: 20250312-5239.

Comment Date: 5 p.m. ET 4/11/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes.

For public inquiries and assistance with making filings such as interventions, comments, or requests for rehearing, the public is encouraged to contact OPP at (202) 502-6595 or OPP@ferc.gov.

Dated: March 13, 2025.
Carlos D. Clay,
Deputy Secretary.

[FR Doc. 2025-04558 Filed 3-18-25; 8:45 am]

BILLING CODE 6717-01-P